DEPARTMENT OF HEALTH AND HUMAN SERVICES

National Institutes of Health

National Institute on Drug Abuse; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute on Drug Abuse Special Emphasis Panel; NIDA-F Special Emphasis Panel.

Date: October 7, 2009.

Time: 9 a.m. to 12 p.m.

Agenda: To review and evaluate grant applications.

Place: The Madison Hotel, 1177 15th St. NW., Washington, DC 20005.

Contact Person: Gerald L. McLaughlin, PhD, Scientific Review Administrator, Office of Extramural Affairs, National Institute on Drug Abuse, NIH, DHHS, Room 220, MSC 8401, 6101 Executive Blvd., Bethesda, MD 20892-8401, 301-402-6626, gm145a@nih.gov.

Name of Committee: National Institute on Drug Abuse Initial Review Group; Medication Development Research Subcommittee.

Date: October 16, 2009.

Time: 8:30 a.m. to 1:30 p.m.

Agenda: To review and evaluate grant applications.

Place: Sofitel Hotel Lafayette Square, 806 15th St. NW., Washington, DC 20005.

Contact Person: Jose F. Ruiz, PhD, Scientific Review Administrator, Office of Extramural Affairs, National Institute on Drug Abuse, NIH, DHHS, 6101 Executive Blvd., Rm. 213, MSC 8401, Bethesda, MD 20892, 301-451-3086, ruizjf@nida.nih.gov.

Name of Committee: National Institute on Drug Abuse Special Emphasis Panel; NIDA-L Conflicts.

Date: October 16, 2009.

Time: 1:30 p.m. to 3 p.m.

Agenda: To review and evaluate grant applications.

Place: Sofitel Hotel Lafayette Square, 806 15th Street NW., Washington, DC 20005.

Contact Person: Gerald L. McLaughlin, PhD, Scientific Review Administrator, Office of Extramural Affairs, National Institute on Drug Abuse, NIH, DHHS, Room 220, MSC 8401, 6101 Executive Blvd. Bethesda, MD 20892-8401, 301-402-6626, gm145a@nih.gov.

(Catalogue of Federal Domestic Assistance Program Nos. 93279, Drug Abuse and Addiction Research Programs, National Institutes of Health, HHS)
Dated: September 3, 2009.
Jennifer Spaeth,
Director, Office of Federal Advisory Committee Policy.

[FR Doc. E9-22010 Filed 9-14-09; 8:45 am]

BILLING CODE 4140-01-M